DEPARTMENT OF STATE

[Public Notice 5841]

Bureau of Educational and Cultural Affairs (ECA) Request for Grant Proposals: Global Undergraduate Exchange Program

Announcement Type: New Cooperative Agreement.

Funding Opportunity Number: ECA/A/E/USS-08-01.

Catalog of Federal Domestic Assistance Number: 00.000.

Key Dates: Application Deadline: August 16, 2007.

Executive Summary: The Office of Academic Exchange Programs of the Bureau of Educational and Cultural Affairs (ECA) announces an open competition for one to three assistance awards to provide administrative services for the FY 2008 Global Undergraduate Exchange Program (Global UGRAD Program). Public and private non-profit organizations meeting the provisions described in IRS regulation 26 CFR 1.501(c)(3) may submit proposals to cooperate with the Bureau in the administration and implementation of academic exchange activities for promising undergraduate students from underrepresented sectors of the population in the following regions: East Asia and the Pacific; Eurasia and Central Asia; and, the Western Hemisphere. For a list of participating countries by region, please see the Project Objectives, Goals, and Implementation document (POGI) that accompanies this announcement. Organizations may apply to administer the program in one or more geographic regions. However, organizations with less than four years experience in conducting international exchange programs are not eligible for this competition. It is anticipated that the total amount of funding available for all FY 2008 activities will be $8,000,000 and will involve the management of approximately 330 students.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The U.S. Department of State is dedicated to increasing its engagement with undergraduate student leaders worldwide who represent indigenous, disadvantaged or underrepresented communities. ECA's outreach includes providing merit-based programs for underserved sectors of society that increase participants' knowledge and understanding of the United States.

The principal objective of the Global Undergraduate Exchange Program (hereafter referred to as the Global UGRAD Program) is to provide a substantive exchange experience at a U.S. college or university to a diverse group of emerging student leaders from underrepresented sectors of the population in East Asia and the Pacific, Eurasia and Central Asia, and the Western Hemisphere. The grantee organization(s) will ensure that participants are enrolled full-time in a non-degree course of study at U.S. institutions alongside American peers, and will provide the participants with opportunities to experience American society, institutions, and culture in and out of the classroom. Program participants will return to their home countries at the conclusion of the exchange program to complete their degree in their home colleges and universities there, and to re-integrate with their home societies.

The Global UGRAD Program will provide approximately 330 scholarships for non-degree academic study at institutions of higher education to outstanding students from non-elite sectors. This number includes 40 full academic-year and 50 one-semester scholarships for students from East Asia and the Pacific, 140 full academic-year scholarships for students from Eurasia and Central Asia, and 30 full academic-year and 70 one-semester scholarships for students from the Western Hemisphere. In addition, the grantee organization(s) will be responsible for providing pre-academic intensive English language instruction as specified in the “Region Specific Guidelines” in the Project Objectives, Goals, and Implementation document (POGI). Scholarships will be granted primarily to students currently enrolled in an undergraduate program in their home country, and who have completed their first, second, or third year of undergraduate study. The grantee organization(s) will place one-semester and academic-year program participants in non-degree programs at both U.S. four-year colleges and universities, and community colleges.

The grantee organization(s) will enhance the participants' academic education by developing enrichment activities that may include having students make local presentations about their countries, performing community service, and taking part in internships. All participants will be required to return to their home countries immediately upon the conclusion of their scholarship program. ECA will not consider participant transfers from the Global UGRAD Program to any other U.S. institution or Exchange Visitor Program.

The grantee organization(s) will make all university placements and serve as the principal liaison(s) among Global UGRAD Program host institutions and ECA. Further details on specific program responsibilities can be found in the Project Objectives, Goals, and Implementation (POGI) document. Interested organizations should read the entire Federal Register announcement for all information prior to preparing proposals. Programs must comply with J-1 visa regulations. Please refer to the Solicitation Package for further instructions.

The Bureau requires sub-grant agreements from all applicant organizations that intend to work with other organizations in the implementation of this program. All sub-grantees are subject to the same requirements as principal grantee organizations.

In a cooperative agreement, the Office of Academic Exchange Programs, Study of the United States Branch (ECA/A/E/USS) is substantially involved in program activities beyond routine grant monitoring. ECA/A/E/USS activities and responsibilities for this program are as follows:

1. Participating in the design and direction of program activities;

2. Final selection of all program participants;

3. Approval of key personnel;

4. Approval and input for all program agendas and timelines;

5. Providing guidance in the execution of all project components;

6. Monitoring the target goal for the number of participants and the expenditure of funds toward meeting that goal;

7. Providing guidance on content and speakers for workshops;

8. Assisting with SEVIS-related issues;

9. Assisting with participant emergencies;

10. Providing background information related to participants' home countries and cultures;

11. Providing liaison with Public Affairs Sections of the U.S. Embassies, bi-national Fulbright Commissions, and country desk officers at the State Department;

12. Providing ECA evaluation mechanisms.

II. Award Information

Type of Award: Cooperative Agreement.

ECA's level of involvement in this program is detailed under number I above.

Fiscal Year Funds: 2008.

Approximate Total Funding: $8,000,000, pending availability of FY 2008 funds. ($4,000,000 for Eurasia and Central Asia; $2,000,000 for East Asia and the Pacific; $2,000,000 for Western Hemisphere).

Approximate Number of Awards: 1 to 3.

Ceiling of Award Range: $8,000,000.

Anticipated Award Date: Pending availability of funds, November 1, 2007.

Anticipated Project Completion Date: September 30, 2009.

Additional Information: Pending successful implementation of this program and the availability of funds in subsequent fiscal years, it is ECA's intent to renew these awards for two additional fiscal years.

III. Eligibility Information

III.1. Eligible applicants

Applications may be submitted by public and private non-profit organizations meeting the provisions described in Internal Revenue Code section 26 U.S.C. 501(c)(3). The Bureau will give preference to organizations proposing to place students at accredited small colleges and universities that will provide students with a supportive environment and personalized attention, including community colleges, Historically Black Colleges and Universities (HBCUs), and Hispanic-serving institutions.

III.2. Cost Sharing or Matching Funds

There is no minimum or maximum percentage required for this competition. However, ECA encourages applicants to provide maximum levels of possible cost sharing and funding in support of its programs.

If cost sharing is proposed, the cooperating organization must provide the amount stipulated in its proposal and later included in an approved grant agreement. Cost sharing may be in the form of allowable direct or indirect costs. For accountability, written records must be maintained to support all costs which are claimed as contribution, as funding provided by the federal government. Such records are subject to audit. The basis for determining the value of cash and in-kind contributions must be in accordance with OMB Circular A-110, (Revised), Subpart C.23—Cost Sharing and Matching. In the event that the amount of cost sharing as stipulated in the approved budget is not provided, ECA's contribution will be reduced in like proportion.

III.3. Other Eligibility Requirements

ECA grant guidelines require that organizations with less than four years experience in conducting international exchanges be limited to $60,000 in Bureau funding. ECA anticipates awarding one or more grants, in an amount up to $8,000,000 to support program and administrative costs required to implement this exchange program. Therefore, organizations with less than four years experience in conducting international exchanges are ineligible to apply under this competition.

IV. Application and Submission Information

Note: Please read the complete announcement before sending inquiries or submitting proposals. Once the RFGP deadline has passed, ECA staff may not discuss this competition with applicants until the proposal review process has been completed.

IV.1 Contact Information to Request an Application Package

Please contact the Office of Academic Exchange Programs, ECA/A/E/USS, Room 314, U.S. Department of State, SA-44, 301 4th Street, SW., Washington, DC 20547, (202) 453-8532, fax: (202) 453-8533, e-mail: walshbm@state.gov to request a Solicitation Package. Please refer to the Funding Opportunity Number ECA/A/E/USS-08-01 located at the top of this announcement when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Bureau Program Officer Brendan M. Walsh and refer to the Funding Opportunity Number ECA/A/E/USS-08-01 located at the top of this announcement on all other inquiries and correspondence.

IV.2. To Download a Solicitation Package Via Internet

The entire Solicitation Package may be downloaded from the Bureau's Web site at http://exchanges.state.gov/education/rfgps/menu.htm, or from the Grants.gov Web site at http://www.grants.gov. Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget. Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to all Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, Fax: (202) 453-8640. Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. ECA recommends that your proposal include a draft survey questionnaire or other technique plus a description of a methodology to use to link outcomes to original project objectives. ECA expects that the cooperating organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. The evaluation plan should include a description of the program's objectives, the anticipated project outcomes, and how and when these outcomes (performance indicators) will be measured. The more that outcomes are “smart” (specific, measurable, attainable, results-oriented, and placed in a reasonable timeframe), the easier it will be to conduct the evaluation. The evaluation plan should also show how your project objectives link to the goals of the program described in this RFGP.

The monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

Assessing the following four levels of outcomes, as they relate to the program goals set out in the RFGP (listed here in increasing order of importance) is encouraged:

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The cooperating organization will be required to provide reports analyzing their evaluation findings to ECA in regular program reports. All data collected, including survey responses and contact information, must be maintained for a minimum of three years and provided to ECA upon request.

IV.3e. Please consider the following information when preparing the budget:

IV.3e.1. Applicants must submit a comprehensive budget for the entire program. The award for overall administration of the Global UGRAD Program may not exceed $8,000,000. The award limit for administration of the Global UGRAD Program in each of the geographic regions is specified in the Project Objectives, Goals, and Implementation. All proposals must contain a summary budget as well as breakdowns reflecting both administrative and program budgets. Applicants may provide separate sub-budgets for each program component, phase, location, or activity to provide clarification. A comprehensive narrative must accompany the budget, clearly explaining all proposed costs (staff salaries and time on task must be supported by appropriate documentation and certified as true and accurate representations of actual costs and percentage of task).

The Bureau encourages applicant organizations to provide maximum levels of cost sharing and funding from private sources in support of its programs.

IV.3e.2. Allowable costs for the program include the following:

(1) Program Expenses

(2) Domestic Administration

(3) Overseas Administration

Please refer to the Solicitation Package for complete budget guidelines and formatting instructions.

IV.3f. Application Deadline and Methods of Submission:

Application Deadline Date: August 16, 2007.

Reference Number: ECA/A/E/USS-08-01.

Methods of Submission: Electronic and Hard Copy.

Applications may be submitted in one of two ways:

1. In hard-copy, via a nationally recognized overnight delivery service (i.e., DHL, Federal Express, UPS, Airborne Express, or U.S. Postal Service Express Overnight Mail, etc.);

2. Or, electronically through http://www.grants.gov.

Along with the Project Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not provide notification upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/E/USS-08-01, Program Management, ECA/EX/PM, Room 534, 301 4th Street, SW., Washington, DC 20547.

Applicants submitting hard-copy applications must also submit the “Executive Summary” and “Proposal Narrative” sections of the proposal in text (.txt) format on a CD-ROM. ECA will provide these files electronically to the appropriate Public Affairs Section(s) at the U.S. embassies for their review.

IV.3f.2—Submitting Electronic Applications. Applicants have the option of submitting proposals electronically through Grants.gov (http://www.grants.gov). Complete solicitation packages are available at Grants.gov in the “Find” portion of the system. Please follow the instructions available in the “Get Started”' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support. Contact Center Phone: 800-518-4726. Business Hours: Monday-Friday, 7a.m.-9p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

Optional—IV.3f.3 You may also state here any limitations on the number of applications that an applicant may submit and make it clear whether the limitation is on the submitting organization, individual program director or both.

IV.3g. Intergovernmental Review of Applications: Executive Order 12372 does not apply to this program.

V. Application Review Information

V.1. Review Process

ECA will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to ECA grant panels for advisory review. Proposals may also be reviewed by the Office of the Legal Adviser or by other Department elements. Final funding decisions are at the discretion of the Department of State's Assistant Secretary for Educational and Cultural Affairs. Final technical authority for cooperative agreements resides with the ECA's Grants Officer.

Review Criteria

Proposals will be subject to compliance with Federal and ECA regulations and guidelines and forwarded to ECA senior grant panels for advisory review. Proposals may also be reviewed by the Office of the Legal Adviser or by other Department elements. Final funding decisions are at the discretion of the Department of State's Assistant Secretary for Educational and Cultural Affairs. Final technical authority for assistance awards (grants or cooperative agreements) resides with an ECA Grants Officer. ECA reserves the right to reduce, revise, or increase proposal budgets in accordance with the needs of the program and availability of funds.

The submission will be reviewed with the following review criteria in mind:

1. Program Development and Management: Proposals should exhibit originality, substance, precision, and relevance to the Bureau's mission. Objectives should be reasonable, feasible, and flexible. Detailed agenda and relevant work plan should demonstrate substantive undertakings and logistical capacity. Agenda and plan should adhere to the program overview and guidelines described above. Proposals should clearly demonstrate how the program will meet the program's objectives and plan.

2. Multiplier Effect/Impact: Proposed programs should strengthen long-term mutual understanding, including maximum sharing of information and establishment of long-term institutional and individual linkages.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity and Record: Proposals should demonstrate an institutional record of successful exchange programs, including responsible fiscal management and full compliance with all reporting requirements for past Bureau grants as determined by Bureau Grants Staff. Proposals also should demonstrate the capacity to place students at geographically diverse, accredited small colleges and universities that can provide students with personalized attention. The Bureau will consider the past performance of prior recipients and the demonstrated potential of new applicants. Proposed personnel and institutional resources should be adequate and appropriate to achieve the program or project's goals.

5. Project Evaluation: Proposals should include a plan to evaluate the activity's success, both as the activities unfold and at the end of the program. A draft survey questionnaire or other technique plus description of a methodology to use to link outcomes to original project objectives is recommended.

6. Cost-effectiveness: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal ECA procedures. Successful applicants will receive an Assistance Award Document (AAD) from the ECA's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements: You must provide ECA with a hard copy original plus one copy of the following reports:

1. A final program and financial report no more than 90 days after the expiration of the award;

2. Two interim reports that address significant activities of the period and new planned activities for the next period.

Financial reports must adhere to the quarterly reporting requirements mandated by Congress and be submitted quarterly. Please note that all program and financial reports should be sent to the Grants Division.

The cooperating organization will be required to provide reports analyzing their evaluation findings to ECA in its regular program reports. (Please refer to IV. Application and Submission Instructions (IV.3.d.3) above for Program Monitoring and Evaluation information.

All data collected, including survey responses and contact information, must be maintained for a minimum of three years and provided to ECA upon request.

All reports must be sent to the ECA Grants Officer and ECA Program Officer listed in the final assistance award document.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Program Officer Brendan M. Walsh, Office of Academic Exchange Programs, ECA/A/E/USS, Room 314, Reference Number: ECA/A/E/USS-08-01, U.S. Department of State, SA-44, 301 4th Street, SW., Washington, DC 20547, (202) 453-8532, fax: (202) 453-8533, e-mail: walshbm@state.gov.

All correspondence with the Bureau concerning this RFGP should reference the above title and number ECA/A/E/USS-08-01. Please read the complete announcement before sending inquiries or submitting proposals. Once the RFGP deadline has passed, ECA staff may not discuss this competition with applicants until the proposal review process has been completed.

VIII. Other Information

Notice

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements per section VI.3 above.

Dated: June 12, 2007.
C. Miller Crouch,
Acting Assistant Secretary for Educational and Cultural Affairs, Department of State.

[FR Doc. E7-12027 Filed 6-20-07; 8:45 am]

BILLING CODE 4710-05-P